DEPARTMENT OF JUSTICE

Immigration and Naturalization Service

[INS No. 2209-02; AG Order No. 2598-2002]

RIN 1115-AE26

Extension of the Designation of Montserrat Under the Temporary Protected Status Program

AGENCY: Immigration and Naturalization Service, Justice.

ACTION: Notice.

SUMMARY: The designation of Montserrat under the Temporary Protected Status (TPS) program will expire on August 27, 2002. This notice extends the Attorney General's designation of Montserrat under the TPS program for 12 months until August 27, 2003, and sets forth procedures necessary for nationals of Montserrat (or aliens having no nationality who last habitually resided in Montserrat) with TPS to re-register for the additional 12-month period. Re-registration is available only to persons who registered during the initial registration period, which ended August 27, 1998, or registered after that date under the late initial registration provisions, and timely re-registered under each subsequent extensions. Nationals of Montserrat (or aliens having no nationality who last habitually resided in Montserrat) who previously have not applied for TPS may be eligible to apply under the late initial registration provisions.

EFFECTIVE DATES: The extension of Montserrat's TPS designation is effective August 27, 2002, and will remain in effect until August 27, 2003. The 60-day re-registration period begins July 17, 2002, and will remain in effect until September 16, 2002.

FOR FURTHER INFORMATION CONTACT: Emily Crowder Frazelle, Program Analyst, Residence and Status Services Branch, Adjudications, Immigration and Naturalization Service, Room 3040, 425 I Street, NW, Washington, DC 20536, telephone (202) 514-4754.

SUPPLEMENTARY INFORMATION:

What Authority Does the Attorney General Have To Extend the Designation of Montserrat Under the TPS Program?

Section 244(b)(3)(A) of the Immigration and Nationality Act (Act) states that at least 60 days before the end of a designation, or any extension thereof, the Attorney General must review conditions in the foreign state for which the designation is in effect. 8 U.S.C. 1254a(b)(3)(A). If the Attorney General does not determine that the foreign state no longer continues to meet the conditions for designation, the period of designation is extended automatically for 6 months pursuant to section 244(b)(3)(C) of the Act, although the Attorney General may exercise his discretion to extend the designation for a period of 12 or 18 months. 8 U.S.C. 1254a(b)(3)(C).

Why Did the Attorney General Decide To Extend the TPS Designation for Montserrat?

On August 28, 1997, the Attorney General designated Montserrat under the TPS program for a period of 12 months due to volcanic eruptions that affected the entire island and its residents. 62 FR 45685. The Attorney General has extended Montserrat's TPS designation four times, determining each time that the conditions warranting such designation continued to be met. See 66 FR 40834 (August 3, 2001); 65 FR 58806 (October 2, 2000); 64 FR 48190 (September 2, 1999); 63 FR 45864 (August 27, 1998).

Since the date of the last extension, the Departments of Justice and State have continued to review conditions in Montserrat. A 12-month extension is warranted due to the threat of further volcanic eruptions, the ongoing housing shortage, and the serious health risks from hazardous volcanic ash.

Citing the Montserrat Volcano Observatory's March 2002 Hazard Assessment, the Department of State reports that a significant risk of a new eruption exists in the near future caused by the sustained growth of the lava dome of the Soufriere Hills volcano. Recommendation for the Extension of TPS (April 24, 2002). Such continuous dome growth has increased the hazards of pyroclastic flows, explosions, volcanic mudflow, and fall of ash and small stones. Id. The Department of Justice reports that the volcano spews hundreds of tons of sulphur dioxide daily, as well as produces numerous rockfalls and flows of super-heated rocks, ash, and gas. The Immigration and Naturalization Service (INS) Resource Information Center (March 2002). Furthermore, scientists monitoring the volcano have issued a bulletin warning that the volcano remains deadly. Id.

The Department of State further notes that emergency measures remain in place in Montserrat, the airport remains closed without a functioning airstrip, and a housing shortage persists. Recommendation for Extension of TPS. In addition to destruction caused by the volcano's eruptions in 1997 and 2000, volcanic ash covers much of the island, posing serious health risks to those who inhale the airborne cristobalite contained in the ash. Id. Such reports demonstrate that the volcano eruptions that led to the initial designation of TPS for Montserrat continue to cause health risks as well as create problems with the reconstruction of the island's airport.

Based on this review, the Attorney General, after consultation with appropriate government agencies, finds that the conditions that warranted designation of Montserrat under the TPS program continue to be met. 8 U.S.C. 1254a(b)(3)(A). There continues to be a substantial, but temporary, disruption of living conditions in Montserrat as a result of environmental disaster, and Montserrat remains unable, temporarily, to handle adequately the return of its nationals. 8 U.S.C. 1254a(b)(1)(B)(i)-(ii). On the basis of these findings, the Attorney General concludes that the TPS designation for Montserrat should be extended for an additional 12-month period. 8 U.S.C. 1254a(b)(3)(C).

If I Currently Have TPS Through the Montserrat TPS Program, Do I Still Re-register for TPS?

Yes. If you already have been granted TPS through the Montserrat TPS program, your status will expire on August 27, 2002. Accordingly, you must re-register for TPS in order to maintain your status through August 27, 2003. See the following re-registration instructions.

If I Am Currently Registered for TPS, How Do I Re-Register for An Extension?

Persons previously granted TPS under the Montserrat program who wish to maintain such status must apply for an extension by filing (1) a Form I-821, Application for Temporary Protected Status, without the fee, (2) a Form I-765, Application for Employment Authorization, and (3) two identification photographs (1½ inches x 1½ inches). See the chart below to determine whether you must submit the one hundred and twenty dollar ($120) filing fee with the Form I-765. Applicants for an extension of TPS benefits do not need to be re-fingerprinted and thus do not pay the fifty dollar ($50) fingerprint fee. Children beneficiaries of TPS who have reached the age of fourteen (14) but previously were not fingerprinted must pay the fifty dollar ($50) fingerprint fee with the application for extension.

Submit the completed forms and applicable fee, if any, to the INS district office that has jurisdiction over your place of residence during the 60-day re-registration period that begins July 17, 2002, and will remain in effect until September 16, 2002 (inclusive of such end date).

If | Then
You are applying for employment authorization through August 27, 2003 | You must complete and file Form I-765, Application for Employment Authorization, with the $120 fee.
You already have employment authorization or do not require employment authorization | You must complete and file Form I-765, with no filing fee.
You are applying for employment authorization and are requesting a fee waiver | You must complete and file (1) Form I-765 with no fee; and (2) a fee waiver request and affidavit (and any other information) in accordance with 8 CFR 244.20.

How Does an Application for TPS Affect My Application for Asylum or Other Immigration Benefits?

An application for TPS does not affect an application for asylum or any other immigration benefit. A national of Montserrat (or alien having no nationality who last habitually resided in Montserrat) who otherwise is eligible for TPS and has applied for, or plans to apply for, asylum but who has not been granted asylum or withholding of removal, may also apply for TPS. Denial of an application for asylum or any other immigration benefit does not affect an applicant's ability to apply for TPS, although the grounds for denying one form of relief may serve as the basis for denying TPS as well. For example, a person who has been convicted of a particularly serious crime is ineligible for both asylum and TPS. 8 U.S.C. 1158(b)(2); 8 U.S.C. 1254a(c)(2)(B).

Does This Extension Allow Nationals of Montserrat (or Aliens Having No Nationality Who Last Habitually Resided in Montserrat) Who Entered the United States After August 28, 1997, To Apply for TPS?

No. This is a notice of an extension of the TPS designation for Montserrat, not a notice of re-designation of Montserrat under the TPS program. An extension of TPS does not change the required dates of continuous residence and continuous physical presence in the United States. This extension does not expand TPS availability to those who are not already TPS class members. To be eligible for benefits under this extension, nationals of Montserrat (or aliens having no nationality who last habitually resided in Montserrat) must have resided continuously in the United States since August 22, 1997, and have been continuously physically present in the United States since August 28, 1997.

Is Late Initial Registration Possible?

Yes. Some persons may be eligible for late initial registration under 8 CFR 244.2. To apply for late initial registration an applicant must:

(1) Be a national of Montserrat (or an alien who has no nationality and who last habitually resided in Montserrat);

(2) Have been continuously physically present in the United States since August 28, 1997;

(3) Have continuously resided in the United States since August 22, 1997; and

(4) Be admissible as an immigrant, except as provided under section 244(c)(2)(A) of the Act, and not ineligible under section 244(c)(2)(B) of the Act.

Additionally, the applicant must be able to demonstrate that, during the initial registration period from August 28, 1997, through August 27, 1998, he or she:

(1) Was a nonimmigrant or had been granted voluntary departure status or any relief from removal;

(2) Had an application for change of status, adjustment of status, asylum, voluntary departure, or any relief from removal or change of status pending or subject to further review or appeal;

(3) Was a parolee or had a pending request for reparole; or

(4) Was the spouse or child of an alien currently eligible to be a TPS registrant. 8 CFR 244.2(f)(2).

An applicant for late initial registration must file an application for late registration within a 60-day period immediately following the expiration or termination of the above described conditions. 8 CFR 244.2(g).

Notice of Extension of Designation of Montserrat Under the TPS Program

By the authority vested in me as Attorney General under sections 244(b)(1)(B), (b)(3)(A), and (b)(3)(C) of the Act, I have consulted with the appropriate government agencies and determine that the conditions for designation of TPS for Montserrat continue to be met. 8 U.S.C. 1254a(b)(3)(A). Accordingly, I order as follows:

(1) The designation of Montserrat under section 244(b) of the Act is extended for an additional 12-month period from August 27, 2002, to August 27, 2003. 8 U.S.C. 1254a(b)(3)(C).

(2) There are approximately 327 nationals of Montserrat (or aliens who have no nationality and who last habitually resided in Montserrat) who have been granted TPS and who are eligible for re-registration.

(3) To maintain TPS, a national of Montserrat (or an alien having no nationality who last habitually resided in Montserrat) who received TPS during the initial designation period must re-register for TPS during the 60-day re-registration period from July 17, 2002 until September 16, 2002.

(4) To re-register, the applicant must file the following: (1) Form I-821, Application for Temporary Protected Status; (2) Form I-765, Application for Employment Authorization; and (3) two identification photographs (1½ inches by 1½ inches). There is no fee for a Form I-821 filed as part of the re-registration application. If the applicant requests employment authorization, he or she must submit one hundred and twenty dollars ($120) or a properly documented fee waiver request, pursuant to 8 CFR 244.20, with the Form I-765. An applicant who does not request employment authorization must nonetheless file Form I-765 along with Form I-821, but is not required to submit any fee. The fifty-dollar ($50) fingerprint fee is required only for children beneficiaries of TPS who have reached the age of 14 but previously were not fingerprinted. Failure to re-register without good cause will result in the withdrawal of TPS. 8 CFR 244.17(c). Some persons who previously had not applied for TPS may be eligible for late initial registration under 8 CFR 244.2.

(5) At least 60 days before this extension terminates on August 27, 2003, the Attorney General will review the designation of Montserrat under the TPS program and determine whether the conditions for designation continue to be met. 8 U.S.C. 1254a(b)(3)(A). Notice of that determination, including the basis for the determination, will be published in the Federal Register. 8 U.S.C. 1254a(b)(3)(A).

(6) Information concerning the extension of designation of Montserrat under the TPS program will be available at local INS offices upon publication of this notice and the INS National Customer Service Center at 1-800-375-5283. This information will also be published on the INS Website at http://www.ins.usdoj.gov.

Dated: July 11, 2002.
John Ashcroft,
Attorney General.

[FR Doc. 02-18040 Filed 7-16-02; 8:45 am]

BILLING CODE 4410-10-P